DEPARTMENT OF TRANSPORTATION

Pipeline and Hazardous Materials Safety Administration

Hazardous Materials: Special Permits and Approvals—Minimum Level of Fitness Determinations; Public Meeting

AGENCY: Pipeline and Hazardous Materials Safety Administration (PHMSA), DOT.

ACTION: Notice of public meeting.

SUMMARY: This notice is to advise interested persons that PHMSA will conduct a public meeting to discuss Special Permit and Approval applicant fitness determinations. PHMSA will hold a public meeting on August 19, 2010, in Washington, DC, to provide interested persons with an opportunity to submit oral comments and participate in discussions concerning the criteria used when determining an applicant's minimum level of fitness.

DATES: Public Meeting: August 19, 2010; starting at 9:30 a.m. and ending by 3:30 p.m.

ADDRESSES: Public Meeting: The meeting will be held at the U.S. DOT Headquarters, West Building, 1200 New Jersey Avenue, SE., Washington, DC 20590. The main visitor's entrance is located in the West Building, on New Jersey Avenue and M Street. Upon entering the lobby, visitors must report to the security desk. Visitors should indicate that they will be attending the Special Permit and Approval Applicant Fitness Determinations Public Meeting and wait to be escorted to the meeting location.

Notification: Any person wishing to participate in the public meeting should send an e-mail to approvals@dot.gov and include their name and contact information (Organization/Address/Telephone Number) no later than the close of business on August 16, 2010. Providing this information will facilitate the security screening process for entry into the building on the day of the meeting.

Conference Call Capability/Live Meeting Information: Conference call-in and “live meeting”capability will be provided for this meeting. Specific information on the call-in and live meeting access will be posted when available at: http://www.phmsa.dot.gov/hazmat.

Documentation: Copies of documents for the Minimum Level of Fitness public meeting and the meeting agenda will be posted when available at: http://www.phmsa.dot.gov/hazmat.

FOR FURTHER INFORMATION CONTACT: Mr. Arthur Pollack, Office of Hazardous Materials Special Permits and Approvals, Office of Hazardous Materials Safety, Department of Transportation, Washington, DC 20590; (202) 366-4512 and arthur.pollack@dot.gov.

SUPPLEMENTARY INFORMATION:

I. Background

The Pipeline and Hazardous Materials Safety Administration (PHMSA) has the primary responsibility for the issuance of DOT Special Permits and Approvals to the Hazardous Materials Regulations (HMR). A Special Permit is a document which authorizes a person to perform a function that is not currently authorized under the authority of the HMR. In addition, some activities under the HMR are only authorized when approved by PHMSA. Approvals are required when classifying explosives, fireworks, organic peroxides, and self-reactive materials. Approvals are also required for certain package design types and for persons performing certain activities requiring approval (e.g., visual cylinder re-qualifiers). An Approval document can only be issued if there is a specific approval citation in the HMR.

Under 49 CFR 107.709(d) PHMSA may only grant an approval after determining that an applicant is fit to conduct the activity authorized by the approval, or renewal or modification of approval. PHMSA may determine an applicant's fitness through the information provided in the application, the applicant's prior compliance history, or other information that is available to the Associate Administrator. The first step in evaluating an application, regardless of the approval type, is to conduct an initial level of fitness review. PHMSA uses the Hazmat Intelligence Portal (HIP) and Safety and Fitness Electronic Records (SAFER) in determining an applicants' initial fitness.

Hazmat Intelligence Portal (HIP)

The Hazmat Intelligence Portal (HIP) provides an integrated information source to identify hazardous material safety trends through the analysis of incident and accident information. This information repository supports all transportation modes, data analysts, field inspectors, and team leaders. HIP includes several hazardous materials data points (e.g., Incidents from the 5800 report, PHMSA registrations, approvals, cargo tank registrations, EPA toxic release inventory, inspection/reviews, NRC incidents, one time movements, penalties, PHMSA complains, RAM certifications, USCG releases, and violations). HIP data is organized on customized Dashboards to provide data pertinent to the mode, agency, office or group utilizing the system. The Dashboards are customized for each user or user group. HIP is not searchable by the general public due to privacy concerns.

Safety and Fitness Electronic Records (SAFER)

FMCSA's SAFER System provides company safety data and related services to the industry and public. SAFER's Company Snapshot is an electronic record of a carrier's identification, size commodity information, and safety records, including the safety rating (if any), a roadside out-of-service inspection summary, and crash information. SAFER is publicly searchable and can be found at: http://safer.fmcsa.dot.gov/CompanySnapshot.aspx

Criteria Used by PHMSA in Determining Initial Fitness

The following criteria are currently used by PHMSA when determining minimum level of fitness. Applicants that fall below the following criteria are considered fit. Applicants that meet one or more of the following criteria require further review by Field Operations. Note: These Applicants are not considered unfit.

HIP:

—Incidents Criteria

More than 30 total hazardous materials incidents involving 172.504 table 2; or

More than one serious hazardous materials incident.

—Civil Cases Criteria

Four civil enforcement cases;

Four warning letters;

A combination totaling four civil enforcement cases and/or warning letters; or

Any open cases.

SAFER:

—Motor Carrier Safety Rating of “unsatisfactory”;

—HazMat out-of-service percentage greater than the national average;*

—Driver out-of-service percentage greater than two times the national average;*

—Vehicle out-of-service percentage greater than two times the national average.*

* Note that if the Applicant has been inspected less than ten times or the Applicant has only one out-of-service, the data should not be considered statistical significant and the Applicant will not be considered in need of further review.

II. Purpose of Public Meeting

The August 19, 2010 meeting is intended to provide an opportunity for all interested parties to comment on the aspects of the Minimum Level of Fitness Determination criteria. During this meeting, PHMSA is soliciting comments relative to the use of HIP and SAFER data, applicability of the data, criteria used in determining an applicant's minimum level of fitness, potential alternative sources of fitness data, and other appropriate matters.

Issued in Washington, DC under authority delegated in 49 CFR part 1.
Magdy El-Sibaie,
Associate Administrator for Hazardous Materials Safety, Pipeline and Hazardous Materials Safety Administration.

[FR Doc. 2010-18652 Filed 7-28-10; 8:45 am]

BILLING CODE 4910-60-P